NUCLEAR REGULATORY COMMISSION

[Docket Nos. 50-338 and 50-339; NRC-2020-0201]

Virginia Electric and Power Company; North Anna Power Station, Units 1 and 2

AGENCY: Nuclear Regulatory Commission.

ACTION: Subsequent license renewal application; receipt.

SUMMARY: The U.S. Nuclear Regulatory Commission (NRC) has received an application for the subsequent renewal of Renewed Facility Operating License Nos. NPF-4 and NPF-7, which authorize Virginia Electric and Power Company (Dominion or the applicant) to operate North Anna Power Station, Units 1 and 2 (North Anna). The subsequent renewed licenses would authorize the applicant to operate North Anna for an additional 20 years beyond the period specified in each of the current renewed licenses. The current renewed operating licenses for North Anna expire as follows: Unit 1 on April 1, 2038, and Unit 2 on August 21, 2040.

DATES: The subsequent license renewal application referenced in this document became available on September 10, 2020.

ADDRESSES: Please refer to Docket ID NRC-2020-0201 when contacting the NRC about the availability of information regarding this document. You may obtain publicly-available information related to this document using any of the following methods:

• Federal Rulemaking website: Go to https://www.regulations.gov and search for Docket ID NRC-2020-0201. Address questions about Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document.

• Public Library: A copy of the subsequent license renewal application for North Anna can be accessed at the following public library (library access and hours are determined by local policy):

• Louisa County Library, 881 Davis Hwy, Mineral, VA, 23117

FOR FURTHER INFORMATION CONTACT: David Drucker, Office of Nuclear Reactor Regulation, U.S. Nuclear Regulatory Commission, Washington, DC 20555-0001; telephone: 301-415-6223, email: David.Drucker@nrc.gov.

SUPPLEMENTARY INFORMATION: On August 25, 2020, the NRC received an application (ADAMS Accession Nos. ML20246G696 and ML20246G698) from Virginia Electric and Power Company (Dominion or the applicant), filed pursuant to Section 103 of the Atomic Energy Act of 1954, as amended, and part 54 of title 10 of the Code of Federal Regulations, to renew the operating licenses for North Anna. Renewal of the licenses would authorize the applicant to operate the facility for an additional 20-year period beyond the period specified in the respective current renewed operating licenses. The current renewed operating licenses for North Anna expire as follows: Unit 1 on April 1, 2038, and Unit 2 on August 21, 2040. The North Anna units are Pressurized Water Reactors located in Louisa, Virginia. The acceptability of the tendered application for docketing, and other matters, including an opportunity to request a hearing, will be the subject of subsequent Federal Register notices.

Dated: September 15, 2020.
For the Nuclear Regulatory Commission.
Omid Tabatabai-Yazdi,
Acting Chief, License Renewal Projects Branch, Division of New and Renewed Licenses, Office of Nuclear Reactor Regulation.

[FR Doc. 2020-20682 Filed 9-18-20; 8:45 am]

BILLING CODE 7590-01-P